DEPARTMENT OF JUSTICE

Notice of Lodging of Consent Decree Under the Clean Air Act

Notice is hereby given that on April 3, 2007, a proposed Consent Decree (“Decree”) in United States and Nevada Division of Environmental Protection v. Nevada Power Company, Civil Action No. 2:07-CV-417, was lodged with the United States District Court for the District of Nevada.

In this action the United States asserted claims against Nevada Power Company (“NPC”), pursuant to Section 113(b) of the Clean Air Act (the “Act”), 42 U.S.C. 7413(b), as amended, for injunctive relief and the assessment of civil penalties for violations of the Act and the Act's implementing regulations, including requirements established in the State of Nevada's State Implementation Plan and NPC's Title V Operating Permit, for numerous violations of visible air pollutants limits (opacity limits), as well as numerous additional violations of sampling, testing, monitoring, recordkeeping, and reporting requirements, facility operating requirements, New Source Performance Standards, and sulfur and sulfur dioxide emissions limits at NPC's Reid Gardner Generating Station, located near Moapa, Nevada (“Reid Gardner Station”), approximately 50 miles northeast of Las Vegas, Nevada. The Nevada Division of Environmental Protection (“NDEP”) joins the United States in the complaint and in the Decree.

The Decree requires that NPC pay a $1.11 million civil penalty, $340,000 to be paid to the United States and $770,000 to be paid to NDEP. The Decree further requires that NPC undertake injunctive relief tailored to prevent future opacity violations at Reid Gardner Station, including the installation of natural gas igniters for Units 1-4, construction of a gas pipeline to the facility, and the addition of baghouses to control emissions from Units 1, 2, and 3. The Decree specifies that NPC must implement an Environmental Management Plan at Reid Gardner Station and conduct an audit to assess its compliance with its Title V Permit and the Act. Under the terms of the settlement NPC will also perform a supplemental environmental project for the United States, requiring the permanent retirement of a minimum of 282 tons of annual NOx emissions from Reid Gardner Station.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 2044-7611, and should refer to United States and Nevada Division of Environmental Protection v. Nevada Power Company, D.J. Ref. 90-5-2-1-08653.

The Decree may be examined at the Office of the United States Attorney for the District of Nevada, located at 333 South Las Vegas Blvd., Lloyd George Federal Building, Las Vegas, Nevada, and at U.S. EPA Region 9, located at 75 Hawthorne Street, San Francisco, California. During the public comment period, the Decree, may also be examined on the following Department of Justice Web-Site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov.), fax no. (202) 514-0097, phone confirmation number (202) 514-1547. In requesting a copy from the Consent Decree Library, please enclose a check in the amount of $24,.00 (25 cents per page reproduction cost) payable to the U.S. Treasury or, if by e-mail or faxed, forward a check in that amount to the Consent Decree Library at the stated address. In requesting a copy exclusive of appendices to the Decree, please enclose a check in the amount of $11.25 (25 cents per page reproduction costs) payable to the U.S. Treasury.

Henry Friedman,
Assistant Chief, Environmental Enforcement Section, Environmental and Natural Resources Division.

[FR Doc. 07-1924 Filed 4-18-07; 8:45 am]

BILLING CODE 4410-15-M